DEPARTMENT OF COMMERCE

National Oceanic and Atmospheric Administration

XRIN: 0648-XB36

Gulf of Mexico Fishery Management Council (Council); Public Meetings

AGENCY: National Marine Fisheries Service (NMFS), National Oceanic and Atmospheric Administration (NOAA), Commerce.

ACTION: Notice of public meetings.

SUMMARY: The Gulf of Mexico Fishery Management Council will convene public meetings.

DATES: The meeting will be held July 30 - August 2, 2007.

ADDRESSES: The meeting will be held at the El Tropicano Riverwalk, 110 Lexington Ave., San Antonio, TX 78205; telephone: (210) 223-9461.

Council address: Gulf of Mexico Fishery Management Council, 2203 North Lois Avenue, Suite 1100, Tampa, FL 33607.

FOR FURTHER INFORMATION CONTACT: Wayne E. Swingle, Executive Director, Gulf of Mexico Fishery Management Council; telephone: (813) 348-1630.

SUPPLEMENTARY INFORMATION:

Council

Wednesday, August 1, 2007

8:35 a.m. - The Council meeting will begin with a review the agenda and minutes;

8:45 a.m. - 9:45 a.m - NMFS Proposed Shark Regulations;

9:45 a.m. - 11:30 a.m. - Public testimony on exempted fishing permits (EFPs), if any, Open Public Comment Period regarding any fishery issue or concern. People wishing to speak before the Council should complete a public comment card prior to the comment period.

The Council will review and discuss reports from the previous two days' committee meetings as follows:

1:30 p.m. - 3:30 p.m. - Reef Fish Management;

3:30 p.m. - 4 p.m. - Joint Reef Fish/Mackerel/Red Drum;

4 p.m. - 4:30 p.m. - Red Drum Management;

4:30 - 5:30 p.m. - Administrative Policy;

6 p.m. - 7 p.m. - NOAA Fisheries Service and Gulf Council staff will hold an open public forum/question and answer session on Gulf Reef Fish. This forum, while not a public hearing, will provide the public an opportunity to ask questions and discuss Gulf Reef Fish science and management issues in a less formal setting. The forum is intended to increase dialogue between constituents and fishery managers.

Thursday, August 2, 2007

The Council will continue to review and discuss reports from the committee meetings as follows:

8:30 a.m. - 8:45 a.m. - Report of the Closed Council Session on (Southeast Data and Review (SEDAR);

8:45 a.m. - 10 a.m. - The Council will conclude its meeting by discussing Other Business items.

Committees

Monday, July 30, 2007.

1 p.m. - 5:30 p.m. - The Reef Fish Management Committee will meet to discuss the Public Hearing Draft for Reef Fish Amendment 30 A for Gray Triggerfish/Greater Amberjack, Public Hearing Schedule, Advisory Panel (AP)/Scientific and Statistical Committee (SSC) Schedule and Committee Action; Options Paper for Reef Fish Amendment 30 B for Gag and Red Grouper; Preliminary Scoping Document for Grouper/Tilefish Individual Fishing Quota (IFQ) and other Limited Access Alternatives, Scoping Hearing Schedule; Scheduling of Ad Hoc Recreational Red Snapper Advisory Panel Meeting; Response of Offshore Oil/Gas Companies and Operatives on Actions for Compliance with Fishery Rules; and Discussion of initiating Geographic Management Measures for Red Snapper.

Tuesday, July 31, 2007

8:30 a.m. - 9:30 a.m. - The Reef Fish Management Committee will continue to meet.

9:30 a.m. - 11:30 a.m. - The Joint Reef Fish/Mackerel/Red Drum Management Committee will meet to discuss Public Hearing Draft of Aquaculture Amendment, Summaries of Public Hearings Public Comments by Letters and SSC Recommendations.

1 p.m. - 2 p.m. - The Red Drum Management Committee will meet to discuss Recommendations of Ad Hoc Review Panel for Red Drum.

2 p.m. - 5 p.m. - The Administrative Policy Committee will meet to discuss Paper for Proposed Options for Annual Catch Limits (ACLs) and Accountability Measures (AMs); NMFS Proposed Referendum Guidelines for Gulf Limited Access Privilege Programs (LAPPs); and Staff Report on Handling Large Volumes of Emails.

5 p.m. - 5:30 p.m. - SEDAR Committee - CLOSED COUNCIL SESSION - appointment to SEDAR 16 (King Mackerel) Panels.

Although other non-emergency issues not on the agendas may come before the Council and Committees for discussion, in accordance with the Magnuson-Stevens Fishery Conservation and Management Act (Magnsuon-Stevens Act), those issues may not be the subject of formal action during these meetings. Actions of the Council and Committees will be restricted to those issues specifically identified in the agendas and any issues arising after publication of this notice that require emergency action under Section 305(c) of the Magnuson-Stevens Act, provided the public has been notified of the Council's intent to take action to address the emergency. The established times for addressing items on the agenda may be adjusted as necessary to accommodate the timely completion of discussion relevant to the agenda items. In order to further allow for such adjustments and completion of all items on the agenda, the meeting may be extended from, or completed prior to the date established in this notice.

Special Accommodations

These meetings are physically accessible to people with disabilities. Requests for sign language interpretation or other auxiliary aids should be directed to Tina Trezza at the Council (see ADDRESSES) at least 5 working days prior to the meeting.

Dated: July 9, 2007.
Tracey L. Thompson,
Acting Director, Office of Sustainable Fisheries, National Marine Fisheries Service.

[FR Doc. E7-13532 Filed 7-11-07; 8:45 am]

BILLING CODE 3510-22-S